INTERNATIONAL TRADE COMMISSION

[Investigation No. 337-TA-1421]

Certain Rechargeable Batteries and Components Thereof; Notice of Institution of Investigation

AGENCY: U.S. International Trade Commission.

ACTION: Notice.

SUMMARY: Notice is hereby given that a complaint was filed with the U.S. International Trade Commission on September 12, 2024, under section 337 of the Tariff Act of 1930, as amended, on behalf of LithiumHub, LLC of Norris, South Carolina; Lithiumhub Technologies, LLC of Marshall, Texas; and Mr. Martin Koebler of Norris, South Carolina. Supplements to the complaint were filed on September 30, October 2, and October 7, 2024. The complaint alleges violations of section 337 based upon the importation into the United States, the sale for importation, and the sale within the United States after importation of certain rechargeable batteries and components thereof by reason of the infringement of certain claims of U.S. Patent No. 9,412,994 (“the '994 patent”) and U.S. Patent No. 9,954,207 (“the '207 patent”). The complaint further alleges that an industry in the United States exists or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on October 15, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 4-9, 11-16, and 18-23 of the '994 patent and claims 1-10 and 12-20 of the '207 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “lithium-ion batteries with 6V or more electrical potential, and components used for domestic assembly of lithium-ion batteries with 6V or more electrical potential, specifically, battery management systems and lithium-based rechargeable cells”;

(3) For the purpose of the investigation so instituted, the following are hereby named as parties upon which this notice of investigation shall be served:

(a) The complainants are:

LithiumHub, LLC, 125 Tate Road, Norris, SC 29667

Lithiumhub Technologies, LLC, 104 E Houston, Ste. 150, Marshall, TX 75670

Mr. Martin Koebler, 125 Tate Road, Norris, SC 29667

(b) The respondents are the following entities alleged to be in violation of section 337, and are the parties upon which the complaint is to be served:

Bass Pro Outdoor World LLC, 2500 East Kearney Street, Springfield, MO 65898

Cabela's LLC, 2500 East Kearney Street, Springfield, MO 65898

Navico Group Americas LLC, N85 W12545 Westbrook Crossing, Menomonee Falls, WI 53051

Relion Battery (Shenzhen) Technology Co., Room 410, 4th Floor, Cui Hua Da Industrial, Park, No. 144 Botanical Garden Road, Nanyu E Community, Shenzhen, China

Renogy New Energy Co., LTD, 25A, Hengye Platinum, No. 1338, Sanxiang Road, Gusu District, Suzhou City, Jiangsu, China

RNG International Inc., 5050 S Archibald Avenue, Ontario, CA 91762

Clean Republic SODO LLC, 225 S Lucile St., Seattle, WA 98108

Shenzhen Yichen S-Power Tech Co. LTD, Floor 7, Building B4b, Yingzhan Industrial Zone, Longtian Community, Zehgzi Street, Pingshan District, Shenzhen, China

Shenzhen Fbtech Electronics LTD, No 4-5, Fendmenyuan Industrial Park, Fenfhuang Avenue, Longgang Shenzhen, Guangdong, China

Shenzhen LiTime Technology Co., LTD, Room 301, Building B, Baolong 5th Road, Baolong Community, Baolong Street, Shenzhen, Guangdong, China

Dragonfly Energy Corp., 1190 Trademark Dr. #108, Reno, NV 89521

Dragonfly Energy Holdings Corp., 1190 Trademark Dr. #108, Reno, NV 89521

MillerTech Energy Solutions LLC, 14632 Old State Road, Middlefield, OH 44062

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 16, 2024.
Lisa Barton,
Secretary to the Commission.

[FR Doc. 2024-24285 Filed 10-18-24; 8:45 am]

BILLING CODE 7020-02-P